CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Opportunity Youth Evaluation Bundling study for review and approval in accordance with the Paperwork Reduction Act of 1995, Public Law 104-13, (44 U.S.C. chapter 35). Copies of this ICR, with applicable supporting documentation, may be obtained by calling the Corporation for National and Community Service, Adrienne DiTommaso, at 202-606-3611 or email to aditommaso@cns.gov. Individuals who use a telecommunications device for the deaf (TTY-TDD) may call 1-800-833-3722 between 8:00 a.m. and 8:00 p.m. Eastern Time, Monday through Friday.

DATES: Comments may be submitted, identified by the title of the information collection activity, within May 28, 2015.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 1/30/2015 at 80 FR 5093. This comment period ended 3/31/15. One public comment was received, however it was non-responsive to the proposed ICR and thus was not addressed.

Description: This is a new information collection request. This study would administer a 20 minute, online, telephone, or paper and pencil survey to opportunity youth who are engaged as AmeriCorps members in select programs participating in the study. Additionally, a statistically matched comparison group of opportunity youth not engaged as AmeriCorps members would receive the survey. The survey consists of three sections of questions querying respondents about educational attainment, employment status, and civic engagement, intending to assess educational, employment and civic engagement outcomes achieved as a result of participating in the AmeriCorps program.

Type of Review: New.

Agency: Corporation for National and Community Service.

Title: Opportunity Youth Evaluation Bundling project.

OMB Number: None.

Agency Number: None.

Affected Public: Opportunity youth engaged in select AmeriCorps State and National programs, and a group of statistically matched comparison youth not participating in an AmeriCorps State and National program.

Total Respondents: 1266.

Frequency: Three times over a period of two years.

Average Time per Response: 20 minutes.

Estimated Total Burden Hours: 1266 hours total.

Total Burden Cost (capital/startup): None.

Total Burden Cost (operating/maintenance): None.

Dated: April 22, 2015.
Mary Hyde,
Acting Director of Research and Evaluation.

[FR Doc. 2015-09829 Filed 4-27-15; 8:45 am]

BILLING CODE 6050-28-P